INTERNATIONAL TRADE COMMISSION

[Investigation No. 337-TA-1042]

Certain Hybrid Electric Vehicles and Components Thereof; Commission Decision Not To Review an Initial Determination Granting a Motion for Limited Intervention

AGENCY: U.S. International Trade Commission.

ACTION: Notice.

SUMMARY: Notice is hereby given that the U.S. International Trade Commission has determined not to review the presiding administrative law judge's (“ALJ”) initial determination (“ID”) (Order No. 6), which granted a motion for limited intervention in the above-captioned investigation.

FOR FURTHER INFORMATION CONTACT: Sidney A. Rosenzweig, Office of the General Counsel, U.S. International Trade Commission, 500 E Street SW., Washington, DC 20436, telephone (202) 708-2532. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission TDD terminal on (202) 205-1810.

SUPPLEMENTARY INFORMATION: The Commission instituted this investigation on March 10, 2017, based on a complaint, supplemented by letters, filed by Paice LLC and Abell Foundation, Inc. both of Baltimore, Maryland (collectively, “Paice”). 82 FR 13363 (Mar. 10, 2017). The complaint, as supplemented, alleged violations of section 337 of the Tariff Act of 1930, as amended (19 U.S.C. 1337), in the importation into the United States, the sale for importation, or the sale within the United States after importation of certain hybrid electric vehicles and components thereof by reason of the infringement of certain claims of five United States patents. The notice of investigation named as the respondent Ford Motor Company of Dearborn, Michigan (“Ford”). The Office of Unfair Import Investigations was not named as a party.

On April 7, 2017, Paice filed a motion with the ALJ for a recommendation to the United States District Court for the District of Columbia to issue an order/commission pursuant to Article 17 of the United States-Japan Consular Convention to obtain discovery from the Toyota Motor Corporation of Aichi Prefecture, Japan (“Toyota”). On April 11, 2017, Ford opposed the motion. That same day, non-party Toyota moved to intervene in this investigation for the purpose of submitting a concurrently filed opposition to the motion. See 19 CFR 210.19. On May 2, 2017, the presiding ALJ granted Toyota's motion as the subject ID. Order No. 6 (May 2, 2017).

No petitions for review of the ID were filed. The Commission has determined not to review the ID.

The authority for the Commission's determination is contained in section 337 of the Tariff Act of 1930, as amended (19 U.S.C. 1337), and in Part 210 of the Commission's Rules of Practice and Procedure (19 CFR part 210).

By order of the Commission.
Issued: May 31, 2017.
Lisa R. Barton,
Secretary to the Commission.

[FR Doc. 2017-11614 Filed 6-5-17; 8:45 am]

BILLING CODE 7020-02-P